DEPARTMENT OF COMMERCE

Foreign-Trade Zones Board

[B-54-2015]

Subzone 98A; Authorization of Limited Production Activity; Mercedes-Benz U.S. International, Inc. (Passenger Motor Vehicles); Vance, Alabama

On July 22, 2015, Mercedes-Benz U.S. International, Inc., operator of Subzone 98A, submitted a notification of proposed production activity to the Foreign Trade-Zones (FTZ) Board for its facility within Subzone 98A, in Vance, Alabama.

The notification was processed in accordance with the regulations of the FTZ Board (15 CFR part 400), including notice in the Federal Register inviting public comment (80 FR 50598-50599, August 20, 2015). The FTZ Board has determined that further review of part of the proposed activity is warranted at this time. The production activity described in the notification is authorized on a limited basis, subject to the FTZ Act and the FTZ Board's regulations, including Section 400.14, and further subject to a restriction requiring that foreign status textile-based tufted floor coverings, adhesive cotton tape, and felt strips (classified within HTSUS Subheadings 5602.10, 5703.20 and 5906.10) be admitted to the subzone in privileged foreign status (19 CFR 146.41).

Dated: November 23, 2015.
Andrew McGilvray,
Executive Secretary.

[FR Doc. 2015-30712 Filed 12-3-15; 8:45 am]

BILLING CODE 3510-DS-P